DEPARTMENT OF ENERGY

Federal Energy Regulatory Commission

[Docket No. RP00-24-004]

Transcontinental Gas Pipe Line Corporation; Notice of Compliance Filing

May 4, 2000.

Take notice that on April 28, 2000, Transcontinental Gas Pipe Line Corporation (Transco) tendered for filing to become part of its FERC Gas Tariff, Third Revised Volume No. 1, certain revised tariff sheets to comply with the Commission's Order issued on April 3, 2000 in Docket Nos. RP00-24-000, RP00-24-001, and RP00-24-002. The enclosed tariff sheets are proposed to be effective April 1, 2000.

Transco states that the purpose of the instant filing is to comply with the Commission's April 3 order in the referenced dockets to resume use of the cash out mechanism in effect on the Transco system prior to December 1, 1999.

Transco states that it is serving copies of the instant filing to its affected customers, State Commissions and other interested parties.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-11615 Filed 5-9-00; 8:45 am]

BILLING CODE 6717-01-M